DEPARTMENT OF ENERGY

Federal Energy Regulatory Commission

[Project No. 516-417]

South Carolina Electric & Gas Company; Notice of Availability of Environmental Assessment

October 24, 2006.

In accordance with the National Environmental Policy Act of 1969 and the Federal Energy Regulatory Commission's (Commission) regulations, 18 CFR part 380 (Order No. 486, 52 FR 47897), the Office of Energy Projects has reviewed an application for non-project use of project lands and waters at the Saluda Hydroelectric Project (FERC No. 516), and has prepared an Environmental Assessment (EA) for the proposed non-project use. The project is located on Lake Murray, in Lexington County, South Carolina.

In the application, South Carolina Electric & Gas Company requests Commission authorization to permit the use of almost 2.0 acres of project lands that lie below the 360-foot-msl-contour (full pool elevation) to construct a 100-slip docking facility and a boat launch for the residents of Pintail Point subdivision. The EA contains Commission staff's analysis of the probable environmental impacts of the proposal and concludes that approving the licensee's application, with staff's recommended measures and modifications, would not constitute a major federal action significantly affecting the quality of the human environment.

The EA is attached to a Commission order titled “Order Modifying and Approving Application for Non-Project Use of Project Lands and Waters,” which was issued October 10, 2006, and is available for review and reproduction at the Commission's Public Reference Room, located at 888 First Street, NE., Room 2A, Washington, DC 20426. The EA may also be viewed on the Commission's Web site at http://www.ferc.gov using the “elibrary” link. Enter the project number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E6-18129 Filed 10-27-06; 8:45 am]

BILLING CODE 6717-01-P